DEPARTMENT OF TRANSPORTATION

Bureau of Transportation Statistics

Agency Information Collection; Activity Under OMB Review; Airline Service Quality Performance

AGENCY: Bureau of Transportation Statistics (BTS), DOT.

ACTION: Notice.

SUMMARY: In compliance with the Paperwork Reduction Act of 1995, Public Law 104-13, the Bureau of Transportation Statistics invites the general public, industry and other governmental parties to comment on the continuing need for and usefulness of DOT collecting data on the timeliness of scheduled domestic passenger flights and the incidence of lost and damaged baggage. The 10 largest domestic passenger carriers report the data on a monthly basis.

Commenters should address whether BTS accurately estimated the reporting burden and if there are other ways to enhance the quality, utility and clarity of the information collected.

DATES: Written comments should be submitted by November 21, 2000.

ADDRESSES: Comments should be directed to: Office of Airline Information, K-25, Room 4125, Bureau of Transportation Statistics, 400 Seventh Street, SW., Washington, DC 20590-0001, FAX NO. 366-3383 or EMAIL bernard.stankus@bts.gov.

COMMENTS: Comments should identify the OMB # 2138-0041. Persons wishing the Department to acknowledge receipt of their comments must submit with those comments a self-addressed stamped postcard on which the following statement is made: Comments on OMB # 2138-0041. The postcard will be date/time stamped and returned.

FOR FURTHER INFORMATION CONTACT: Bernie Stankus Office of Airline Information, K-25, Room 4125, Bureau of Transportation Statistics, 400 Seventh Street, SW., Washington, DC 20590-0001, (202) 366-4387.

SUPPLEMENTARY INFORMATION: OMB Approval No. 2138-0041.

Title: Airline Service Quality Performance.

Type Of Review: Extension of a currently approved collection.

Respondents: Large air carriers that account for at least one percent of domestic scheduled passenger revenues.

Number of Respondents: 10.

Number of Responses: 120.

Total Annual Burden: 2,280 hours.

Needs and Uses: Since September 1987, carriers' quality of service has been measured by BTS, resulting in the overall improvement of service. The Department discloses the air carriers' on-time performances and mishandled-baggage rates to the public. Airline passengers are able to make more informed carrier selection decisions based on the quality of service provided by individual air carriers.

While overall air carrier delays have increased in the year 2000, the majority of the increase is associated with an increase in the number of aircraft departures at congested airports. Because air carriers report gate-departure time, wheels-off time, wheels-on time and gate-arrival time, the FAA can use the data to identify bottle necks in the national air transport system. Since the FAA can identify aircraft types from the tail number reported by the air carriers, the FAA can also calculate the system capacity impacted by air traffic congestion and track the ripple effects of delays at hub airports. The data can be used for airport design change analysis, new equipment purchases, and the planning of new runways or airports based on current or projected airport delays and traffic levels.

Donald W. Bright,
Director, Office of Airline Information, Bureau of Transportation Statistics.

[FR Doc. 00-24385 Filed 9-21-00; 8:45 am]

BILLING CODE 4910-FE-P